DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by December 5, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: University of California Davis, Wildlife Health Center, Davis, CA, PRT-165762.

The applicant requests a permit to import various biological samples collected from wild free-ranging African wild dog (Lycaon pictus) for the purpose of pathogen evaluation for scientific research. This notification covers activities to be conducted by the applicant over a five-year period.

Applicant: U.S. Fish and Wildlife Service/National Black-Footed Ferret Conservation Center, Carr, OR, PRT-800411 and 086867.

The applicant requests renewal of their permits to export, import, and re-import live captive-born specimens, biological samples, and salvaged material of black-footed ferret (Mustela nigripes) to/from Canada for scientific research and completion of identified tasks and objectives mandated under the Black-footed Ferret Recovery Plan. Salvaged materials may include but are not limited to: Whole or partial specimens, blood, tissue, hair, and fecal swabs. This notification covers activities to be conducted by the applicant over a five-year period.

Applicant: University of Florida, Florida Museum of Natural History, Gainesville, FL, PRT-164015.

The applicant requests a permit to import biological samples from dwarf crocodile (Osteolaemus tetraspis osborni), Nile crocodile (Crocodylus niloticus), and African slender-snout crocodile (Crocodylus cataphractus) from West and Central Africa countries for the purpose of scientific research. This notification covers activities conducted by the applicant over a five-year period.

Applicant: Robert Serrano, Brewster, NY, PRT-165300.

The applicant requests a permit to import the sport-hunted trophy of one male bontebok (Damaliscus pygargus pygargus) culled from a captive herd maintained under the management program of the Republic of South Africa, for the purpose of enhancement of the survival of the species.

Applicant: Robert C. Riggs, Forked River, NJ, PRT-166589.

The applicant requests a permit to import the sport-hunted trophy of one male bontebok (Damaliscus pygargus pygargus) culled from a captive herd maintained under the management program of the Republic of South Africa, for the purpose of enhancement of the survival of the species.

Applicant: Douglas J. McDaniel, Commerce City, CO, PRT-167031.

The applicant requests a permit to import the sport-hunted trophy of one male bontebok (Damaliscus pygargus pygargus) culled from a captive herd maintained under the management program of the Republic of South Africa, for the purpose of enhancement of the survival of the species.

Dated: October 19, 2007.
Lisa J. Lierheimer,
Senior Permit Biologist, Branch of Permits, Division of Management Authority.

[FR Doc. E7-21728 Filed 11-2-07; 8:45 am]

BILLING CODE 4310-55-P